DEPARTMENT OF THE TREASURY

31 CFR Part 103

[FinCEN Issuance 2001-2]

Financial Crimes Enforcement Network; Bank Secrecy Act Regulations—Issuance Concerning the Requirement that Money Transmitters and Money Order and Traveler's Check Issuers, Sellers, and Redeemers Report Suspicious Transactions; Effective Date and Reporting Form

AGENCY: Financial Crimes Enforcement Network (“FinCEN”), Treasury.

ACTION: Guidance on reporting requirement effective date and form.

SUMMARY: This document reminds money transmitters and money order and traveler's check issuers, sellers, and redeemers of the January 1, 2002 effective date for the requirement to report suspicious transactions. In addition, this document explains which form these businesses must use to report suspicious transactions.

FOR FURTHER INFORMATION CONTACT: Patrice Motz, Money Services Business Program, Office of Compliance and Regulatory Enforcement, FinCEN (800) 949-2732; Judith Starr, Chief Counsel or Cynthia L. Clark, Deputy Chief Counsel, FinCEN (703) 905-3590.

SUPPLEMENTARY INFORMATION:

I. Introduction

The statute generally referred to as the “Bank Secrecy Act,” Titles I and II of Public Law 91-508, as amended, codified at 12 U.S.C. 1829b, 12 U.S.C. 1951-1959, and 31 U.S.C. 5311-5331, authorizes the Secretary of the Treasury, inter alia, to require financial institutions to keep records and file reports that are determined to have a high degree of usefulness in criminal, tax, and regulatory matters, or in the conduct of intelligence or counter-intelligence activities, to protect against international terrorism, and to implement counter-money laundering programs and compliance procedures. Regulations implementing Title II of the Bank Secrecy Act appear at 31 CFR part 103. The authority of the Secretary to administer the Bank Secrecy Act has been delegated to the Director of FinCEN.

The Secretary of the Treasury was granted authority in 1992, with the enactment of 31 U.S.C. 5318(g), to require financial institutions to report suspicious transactions. On March 14, 2000, FinCEN issued a final rule requiring money transmitters, and issuers, sellers, and redeemers of money orders and traveler's checks, to report suspicious transactions. (65 FR 13683).

II. FinCEN Issuance 2001-2

This document, FinCEN Issuance 2001-2, reminds money transmitters and issuers, sellers, and redeemers of money orders and traveler's checks that the requirement to report suspicious transactions applies to transactions occurring on or after January 1, 2002.¹ A report of a suspicious transaction must be filed no later than 30 calendar days after the date of initial detection of facts that may constitute a basis for filing a report of the suspicious transaction. See, 31 CFR 103.20(b)(3).

¹ The information collection in this Issuance has been approved by the Office of Management and Budget (“OMB”) in accordance with the requirements of the Paperwork Reduction Act (44 U.S.C. 3507(d)) under control number 1506-0001. An agency may not conduct or sponsor, and person is not required to respond to, a collection of information unless it displays a valid control number.

FinCEN is developing a form to be used solely by money transmitters and issuers, sellers, and redeemers of money orders and traveler's checks to report suspicious transactions. That form, the Suspicious Activity Report—MSB (“SAR-MSB”), will be published in the Federal Register for public comment. In the meantime, money transmitters and issuers, sellers, and redeemers of money orders and traveler's checks are to use the existing bank suspicious activity report, Form TD F 90-22.47, to report suspicious activities. Money transmitters and issuers, sellers, and redeemers of money orders and traveler's checks are requested to enter the letters “MSB” in block letters at the top of the form and in the empty space in item 5 of the TD F 90-22.47. Further information about completing the TD F 90-22.47 is available on the general FinCEN Web site at http://www.treas.gov/fincen and on the site specific to money services businesses at http://www.msb.gov.

Money services businesses are encouraged to continue to use the Financial Institutions Hotline to voluntarily report to law enforcement suspicious transactions that may relate to recent terrorist activity against the United States. The Hotline was established to facilitate the immediate transmittal of this information to law enforcement. The use of the Hotline is voluntary and does not negate the responsibility of a particular money services business to file a TD F 90-22.47.

Dated: December 20, 2001.
James F. Sloan,
Director, Financial Crimes Enforcement Network.

[FR Doc. 01-31851 Filed 12-27-01; 8:45 am]

BILLING CODE 4820-03-P